DEPARTMENT OF HEALTH AND HUMAN SERVICES

Centers for Disease Control and Prevention

Rescission of Humanitarian Exemption for All Afghan Evacuees Subject to CDC's Global Testing Order

AGENCY: Centers for Disease Control and Prevention (CDC), Department of Health and Human Services (HHS).

ACTION: Notice.

SUMMARY: The Centers for Disease Control and Prevention (CDC), located within the Department of Health and Human Services (HHS), announces rescission of the temporary humanitarian exemption to the agency's Requirement for Negative Pre-Departure COVID-19 Test Result, which was previously granted for individuals relocating to the United States from Afghanistan (“Afghan Evacuees”), including U.S. citizens, lawful permanent residents (LPRs), third country nationals, and Afghans at risk, including Afghan Special Immigrant Visa (SIV) applicants.

DATES: This temporary humanitarian exemption to the Global Testing Order was rescinded September 20, 2021.

FOR FURTHER INFORMATION CONTACT: Tiffany Brown, Deputy Chief of Staff, Centers for Disease Control and Prevention, 1600 Clifton Road NE, MS H21-10, Atlanta, GA 30329. Phone: 404-639-7000. Email: cdcregulations@cdc.gov.

SUPPLEMENTARY INFORMATION: On January 12, 2021, CDC issued an Order requiring all air passengers arriving to the U.S. from a foreign country to get tested no more than 3 days before their flight departs and to present the negative result or documentation of having recovered from COVID-19 to the airline or aircraft operator before boarding the flight. A copy of the Order was published in the Federal Register on January 21, 2021 (86 FR 6337) and went into effect January 26, 2021.

In August 2021, the U.S. Department of State (DOS) issued a series of Security Alerts for Afghanistan due to increased Taliban activity throughout the country, including the capital of Kabul. In response to a request from DOS on August 15, 2021, CDC and the U.S. Department of Health and Human Services (HHS) granted a blanket humanitarian exemption to CDC's Order to expedite the evacuation of U.S. citizens, lawful permanent residents (LPRs), third country nationals, and Afghans at risk, including Afghan Special Immigrant Visa (SIV) applicants, while adhering to other COVID-19 mitigation guidance issued by CDC.

The exemption, which is being administered with the assistance of DOS and other cooperating Federal and state agencies, was granted with the following conditions: (1) The CDC Order requiring mask use for passengers and crew on air conveyances bound for the United States should be followed to the extent possible; (2) all efforts should be made to test for COVID-19 at a transit location prior to arrival in the United States, and to provide test documentation to the traveler, which can be presented upon arrival, and if this cannot be done, individuals (travelers) arriving are required to undergo COVID-19 testing immediately upon arrival to the first port of entry in the United States; (3) individuals who test positive are required to isolate prior to continuing on commercial transportation to their final destination; and (4) family members of those testing positive may be required to adhere to self-quarantine recommendations as stipulated by CDC or state and local health authorities at the arrival location.

Beginning September 20, 2021, all Afghan Evacuees arriving in the United States will have to meet negative pre-departure COVID-19 test requirements or documentation of recovery. This means evacuees will need to be tested no more than three days before departure to the United States and be able to present the negative result or provide documentation of having recovered from COVID-19 within the last 90 days, to the airline or aircraft operator and upon request of United States Government authorities on arrival in the United States.

This requirement applies to all Afghan Evacuees arriving in the United States on any flight including U.S. Government-owned or -contracted, commercial, private, and general and business aviation (chartered) flights coming to the United States.

CDC is rescinding the humanitarian exemption because:

• The Department of State (DOS) has completed the emergency evacuation and concluded the transport of evacuees out of Afghanistan;

• With DOS's conclusion of emergency evacuation from Afghanistan, there is a need to resume appropriate health interventions, including pre-departure COVID-19 testing, before travel into the United States;

• Designated U.S. arrival Ports of Entry with specific testing operations and other services for Afghan Evacuees, which were specifically set up for early urgent evacuation arrival support, have been discontinued in the United States; and

• Evacuees who are still outside of the United States are in safe locations where testing can be accessed before traveling.

Authority: The CDC Director has issued this Notice authorizing the rescission of this temporary humanitarian exemption for individuals relocating to the United States from Afghanistan and reimposing the agency's Requirement for Negative Pre-Departure COVID-19 Test Result pursuant to Sections 361 of the Public Health Service Act, 42 U.S.C. 264, and implementing regulations at 42 CFR 71.20 and 71.31(b).

This Notice is issued to inform the public of this action.

Sherri Berger,
Chief of Staff, Centers for Disease Control and Prevention.

[FR Doc. 2021-20987 Filed 9-27-21; 8:45 am]

BILLING CODE 4163-18-P